DEPARTMENT OF TRANSPORTATION

Office of the Secretary

[Docket No.: OST-2003-15856]

Notice of Request for Renewal of a Previously Approved Collection

AGENCY: Office of the Secretary (OST), DOT.

ACTION: Notice.

SUMMARY: In compliance with the Paperwork Reduction Act of 1995 (44 U.S.C. 3501 et seq.), this notice announces that the Information Collection Request (ICR) abstracted below has been forwarded to the Office of Management and Budget (OMB) for renewal and comment. The ICR describes the nature of the information collection and its expected cost and burden. The Federal Register Notice, with a 60-day comment period soliciting comments on the following collection of information, was published on August 13, 2003 (68 FR 48439). No comments were received.

DATES: Comments on this notice must be received by November 24, 2003.

ADDRESSES: You may submit comments [identified by DOT DMS Docket Number OST-2003-15856 by the following methods:

• Web site: http://dms.dot.gov: Follow the instructions for submitting comments on the DOT electronic docket site.

• Fax: 1-202-493-2251.

• Mail: Docket Management Facility: U.S. Department of Transportation, 400 Seventh Street SW., Nassif Building, Room PL-401, Washington DC 20590-001.

• Hand Delivery: Room PL-401 on Plaza Level of the Nassif Building, 400 Seventh Street SW., Washington DC, between 9 a.m. and 5 p.m., Monday through Friday, except on Federal holidays.

• Federal eRulemaking Portal: Go to http://www.regulations.gov. Follow the online instructions for submitting comments.

Instructions: All submissions must include the agency name and docket number or Regulatory Identification Number (RIN) for this rulemaking. For detailed instructions on submitting comments and additional information on the rulemaking process, see the Public Participation heading of the Supplementary Information section of this document. Note that all comments received will be posted without change to http://dms.dot.gov including any personal information provided. Please see the Privacy Act heading under Regulatory Notes.

Docket: For access to the docket to read background documents or comments received, go to http://dms.dot.gov at any time or to Room PL-401 on the Plaza Level of the Nassif Building, 400 Seventh Street SW., Washington DC, between 9 a.m. and 5 p.m., Monday through Friday, except Federal holidays.

FOR FURTHER INFORMATION CONTACT: Elaine Wheeler; M-61, U.S. Department of Transportation, 400 Seventh Street SW., Washington, DC 20590, telephone (202) 366-4272 or email to Elaine.Wheeler@ost.dot.gov.

SUPPLEMENTARY INFORMATION: Title: Transportation Acquisition Regulation (TAR), 48 CFR part 12.

OMB Control Number: 2105-0517.

Affected Public: Individuals or households and business or other for-profit organizations.

Annual Estimated Burden: 33,115 hours. There is no change to the annual estimated burden.

Abstract: The requested extension of the approved control number covers the TAR which includes forms DOT F 4220.4, DOT F 4220.7, DOT F 4220.43, DOT F 4220.45, DOT F 4220.46, and Form DD 882. Comments are invited on: Whether the proposed collection of information is necessary for the proper performance of the functions of the Department, including whether the information will have practical utility; the accuracy of the Department's estimate of the burden of the proposed information collection; ways to enhance the quality, utility and clarity of the information to be collected; and ways to minimize the use of automated collection techniques or other forms of information technology. All responses to this notice will be summarized and included in the request for OMB approval.

Issued in Washington, DC, on October 16, 2003.
Michael Robinson,
Information Technology Program Management, United States Department of Transportation.

[FR Doc. 03-26871 Filed 10-23-03; 8:45 am]

BILLING CODE 4910-62-P